DEPARTMENT OF DEFENSE

Office of the Secretary

Closed Meeting of the Threat Reduction Advisory Committee

AGENCY: Department of Defense, Office of the Under Secretary of Defense for Acquisition, Technology and Logistics.

ACTION: Notice of Federal Advisory Committee Meeting.

SUMMARY: Under the provisions of the Federal Advisory Committee Act of 1972 (5 U.S.C., Appendix, as amended) and the Sunshine Act of 1976 (5 U.S.C. 552b, as amended) the Department of Defense announces the following Federal advisory committee meeting of the Threat Reduction Advisory Committee (Hereafter referred to as “the Committee”).

DATES: Monday, November 22, 2010 from 9 a.m. to 5 p.m. From 8 a.m. until 9 a.m. on Monday, November 22, 2010, the TRAC will hold an administrative meeting.

ADDRESSES: Heritage Conference Center, Yorktown Conference Room, 4803 Stonecroft Boulevard, Chantilly, VA 20151.

FOR FURTHER INFORMATION CONTACT: Contact Mr. Eric Wright, Defense Threat Reduction Agency/AST, 8725 John J. Kingman Road, MS 6201, Fort Belvoir, VA 22060-6201. E-mail: eric.wright@dtra.mil. Phone: (703) 767-4759. Fax: (703) 767-5701.

SUPPLEMENTARY INFORMATION: Purpose of Meeting: To obtain, review and evaluate classified information related to the Committee's mission to advise on technology security, combating weapons of mass destruction (WMD), chemical and biological defense, the future of the Cooperative Threat Reduction program, and other matters related to the Department of Defense's mission.

Agenda: From 8 a.m. until 9 a.m. on Monday, November 22, 2010, the TRAC will hold an administrative meeting under 41 CFR 102-3.160(b) to swear in its members and provide them with administrative information from a Federal officer or agency.

Beginning at 9 a.m. through the end of the meeting, the committee will receive secret level briefings on WMD threats, the Defense Threat Reduction Agency, and the status of the Cooperative Threat Reduction program. The TRAC will hold classified discussions on these and related national security matters.

Meeting Accessibility: Pursuant to 5 U.S.C. 552b, as amended, and 41 CFR 102-3.155, the Department of Defense has determined that the meeting shall be closed to the public. The Under Secretary of Defense for Acquisition, Technology and Logistics, in consultation with the Office of the DoD FACA Attorney, has determined in writing that this meeting be closed to the public because the discussions fall under the purview of Title 5, United States Code, 552b(c)(1) and are inextricably intertwined with the unclassified material that they cannot reasonably be segregated into separate discussions without disclosing secret or classified material.

Committee's Designated Federal Officer or Point of Contact: Mr. Eric Wright, Defense Threat Reduction Agency/AST, 8725 John J. Kingman Road, MS 6201, Fort Belvoir, VA 22060-6201. E-mail: eric.wright@dtra.mil. Phone: (703) 767-4759. Fax: (703) 767-5701.

Written Statements: Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: November 2, 2010.
Morgan F. Park,
Alternate OSD Federal Register Liaison Officer, Department of Defense.

[FR Doc. 2010-27963 Filed 11-4-10; 8:45 am]

BILLING CODE 5001-06-P